DEPARTMENT OF HEALTH AND HUMAN SERVICES

[Document Identifier: OS-0990-0220; 30-day notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Voluntary Academic and Industry DHHS Partner Surveys—OMB No. 0990-0220—Extension—OS—Office of Grants and Acquisition Policy and Accountability.

Abstract: To comply with E.O. 12862 and 5 U.S.C. 305, the Department of Health and Human Services plans to continue surveying its grant recipients and contractors over a three year period to compile and evaluate their opinions about the Department's grants and acquisition processes, ultimately to improve our business processes. The survey is voluntary. This is an extension, without change, of a currently approved collection. The respondents are vendors and grant recipients. The purpose of the information collection is for program evaluation and program planning or management.

Estimated Annualized Burden Table
Type of respondent | Number of respondents | Number of responses per respondent | Average burden (in hours) per response | Total burden hours
Vendors | 1,000 | 1 | 12/60 | 200
Grant Recipients | 1,667 | 1 | 10/60 | 279
Total |  |  |  | 479

Seleda Perryman,
Office of the Secretary, Paperwork Reduction Act Reports Clearance Officer.

[FR Doc. 2010-15805 Filed 6-29-10; 8:45 am]

BILLING CODE 4150-24-P